DEPARTMENT OF HEALTH AND HUMAN SERVICES

Administration for Children and Families

Submission for OMB Review; Comment Request

Title: National Medical Support Notice

OMB No.: 0970-0222

Description: The National Medical Support Notice (NMSN) is a two-part document that requires information from State child support enforcement agencies, employers, and health plan administrators to assist in enforcing health care coverage provisions in a child support order. The Department of Health and Human Services (DHHS), Administration for Children and Families (ACF) developed and maintains part A of the NMSN, which is sent to an obligor's employer for completion; the Department of Labor (DOL) developed and maintains part B of the NMSN, which is provided to health care administrators following completion of part A.

DOL revised part B to conform with changes to the currently approved part A and is seeking a three-year approval from OMB. To avoid burdening the State child support enforcement agencies with potential reprogramming at varying times due to future changes in part A or B, ACF is resubmitting an unchanged information collection package and requesting an extension to the current OMB approval of NMSN part A to synchronize the expiration date with NMSN part B.

Respondents: State child support enforcement agencies, employers, and health plan administrators.

Annual Burden Estimates
Instrument | Number of respondents | Number of responses per respondent | Average burden hours per response | Total burden hours
National Medical Support Notice-Part A | 54 | 76,499 | .17 hours | 702,261

Estimated Total Annual Burden Hours: 702,261.

Additional Information: Copies of the proposed collection may be obtained by writing to the Administration for Children and Families, Office of Planning, Research and Evaluation, 330 C Street SW., Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV Attn: Desk Officer for the Administration for Children and Families.

Robert Sargis,
Reports Clearance Officer.

[FR Doc. 2016-15046 Filed 6-24-16; 8:45 am]

BILLING CODE 4184-01-P